FEDERAL COMMUNICATIONS COMMISSION

47 CFR Part 73

[DA 05-2719; MB Docket No. 05-8, RM-11142; MB Docket No. 05-11, RM-11144; MB Docket No. 05-12, RM-11145]

Radio Broadcasting Services; Goldendale, WA; Port Angeles, WA; and Ty Ty, GA

AGENCY: Federal Communications Commission.

ACTION: Final rule.

SUMMARY: This document grants three new allotments in Goldendale, Washington; Port Angeles, Washington and Ty Ty, Georgia. The Audio Division, at the request of Klickitat Broadcasting, allots Channel 240A at Goldendale, Washington, as that community's third local aural transmission service. The reference coordinates for Channel 240A at Goldendale are 45-46-12 North Latitude and 120-43-48 West Longitude. The allotment requires a site restriction of 9.3 kilometers (5.8 miles) southeast to avoid a short-spacing to the license site of FM Station KXXO, Channel 241C, Olympia, Washington and the application site of Channel 241C2 at Stanfield, Oregon. Supplementary Information, infra.

DATES: Effective December 1, 2005. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 05-8, 05-11, 05-12, adopted October 12, 2005 and released October 17, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

The Audio Division, at the request of Plan 9 Broadcasting, allots Channel 229A at Port Angeles, Washington, as that community's fifth local aural transmission service. The reference coordinates for Channel 229A at Port Angeles are 48-06-54 North Latitude and 123-26-36 West Longitude. This allotment is at city reference coordinates and requires no site restriction. Port Angeles is located within 320 kilometers (199 miles) of the U.S.-Canadian border. Canadian concurrence has been requested for this allotment, as a specially negotiated short-spaced allotment because the proposed Port Angeles allotment is short-spaced to Canadian Station CJJR-FM, Channel 229C, Vancouver, BC and vacant Channel 230A at Port Renfrew, BC. However, notification from Canada has not been received. Therefore, if a construction permit is granted prior to the receipt of formal concurrence in the allotment by the Canadian government, the construction permit will include the following condition: “Operation with the facilities specified for Port Angeles herein is subject to modification, suspension or, termination without right to hearing, if found by the Commission to be necessary in order to conform to the USA-Canadian FM Broadcast Agreement.”

The Audio Division, at the request of Sutton Communications Company, allots Channel 249A at Ty Ty, Georgia, as that community's first local aural transmission service. The reference coordinates for Channel 249A at Ty Ty are 31-34-01 North Latitude and 83-40-07 West Longitude. This allotment requires a site restriction of 10.8 kilometers (6.7 miles) north to avoid short-spacing to the application site of Station WDMG-FM, Channel 250A, Ambrose, Georgia and license site of Station WRAK-FM, Channel 247C, Bainbridge, Georgia.

List of Subjects in 47 CFR Part 73

Radio, Radio broadcasting.

Accordingly, part 73 is amended as follows:

PART 73—RADIO BROADCAST SERVICES

1. The authority citation for part 73 continues to read as follows:

Authority: 47 U.S.C. 154, 303, 334 and 336.

§ 73.202 [Amended]

2. Section 73.202(b), the Table of FM Allotments under Georgia, is amended by adding Ty Ty, Channel 249A.

3. Section 73.202(b), the Table of FM Allotments under Washington, is amended by adding Channel 240A at Goldendale; and by adding Port Angeles, Channel 229A.

Federal Communications Commission.
John A. Karousos,
Assistant Chief, Audio Division, Media Bureau.

[FR Doc. 05-21548 Filed 11-1-05; 8:45 am]

BILLING CODE 6712-01-P